SMALL BUSINESS ADMINISTRATION

National Women's Business Council; Notice of Public Meeting

AGENCY: Small Business Administration, National Women's Business Council.

ACTION: Notice of open public meeting.

DATES: The public meeting will be held on Tuesday, January 7, 2025, from 10:00 a.m. to 4:00 p.m. EDT.

ADDRESSES: This meeting will be held at SBA Headquarters, at 409 3rd St. SW, Washington, DC 20416.

FOR FURTHER INFORMATION CONTACT: For more information, please visit the NWBC website at www.nwbc.gov, email info@nwbc.gov or call Rhylee Jones (NWBC Public Affairs Associate) at (202) 735-4342.

The meeting is open to the public; however, advance notice of attendance is requested. To RSVP, please visit the NWBC website at www.nwbc.gov. The “Public Meetings” section under “Events” will feature a link to register on Eventbrite. Public questions and comments will be addressed and answered during the Q&A portion of the meeting.

SUPPLEMENTARY INFORMATION: Pursuant to section 10(a)(2) of the Federal Advisory Committee Act, the National Women's Business Council (NWBC) announces its first public meeting of Fiscal Year 2025. The 1988 Women's Business Ownership Act established NWBC to serve as an independent source of advice and policy recommendations to the President, Congress, and the Administrator of the U.S. Small Business Administration (SBA) on issues of importance to women entrepreneurs.

During this meeting the Council will present its 2024 policy recommendations and gather information to inform its exploration of topics to advance women's business ownership in 2025. The public will have the opportunity to ask questions and provide comments following the presentations. Accommodation for ASL will be provided. Please request translation services and other accommodations during registration.

Dated: December 11, 2024.
Andrienne Johnson,
Committee Management Officer.

[FR Doc. 2024-29541 Filed 12-13-24; 8:45 am]

BILLING CODE P